DEPARTMENT OF ENERGY

Federal Energy Regulatory Commission

Lockhart Power Company; Notice of Application Tendered for Filing With the Commission, Soliciting Additional Study Requests, and Establishing Procedural Schedule for Relicensing and a Deadline for Submission of Final Amendments

September 14, 2010.

Take notice that the following hydroelectric application has been filed with the Commission and is available for public inspection.

a. Type of Application: Subsequent Minor License.

b. Project No.: 13590-001.

c. Date Filed: August 31, 2010.

d. Applicant: Lockhart Power Company.

e. Name of Project: Riverdale Hydroelectric Project.

f. Location: On the Enoree River in Spartanburg and Laurens counties, South Carolina. The project does not affect federal lands.

g. Filed Pursuant to: Federal Power Act 16 USC 791 (a)-825(r).

h. Applicant Contact: Bryan D. Stone, Chief Operating Officer, Lockhart Power Company, Inc., 420 River Street, P.O. Box 10, Lockhart, SC 29364, (864) 545-2211.

i. FERC Contact: Sarah Florentino, (202) 502-6863 or via e-mail at Sarah.Florentino@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: November 1, 2010.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

m. This application is not ready for environmental analysis at this time.

n. The existing, currently non-operational Riverdale Project consists of: (1) A 12-foot high, 425-foot-long concrete gravity dam with 2-foot flashboards; (2) a 9-acre impoundment; (3) a headrace leading to a 110-foot-long steel penstock; (4) a powerhouse containing a single 1.45-megawatt turbine-generator unit; (5) a 1400-foot-long tailrace channel; and (6) appurtenant facilities. The proposed project would operate in a run-of-river mode and generate about 5,318 megawatt hours annually. The power would serve Lockhart Power Company's native load or be sold to a wholesale customer.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

p. Procedural schedule and final amendments: The application will be processed according to the following Hydro Licensing Schedule. Revisions to the schedule will be made as appropriate.

Issue Deficiency Letter | November 2010.
Issue Acceptance letter | March 2011.
Issue Scoping Document 1 for comments | April 2011.
Request Additional Information (if necessary) | June 2011.
Issue Scoping Document 2 (if necessary) | June 2011.
Notice of application is ready for environmental analysis | September 2011.
Notice of the availability of the draft EA | July 2012.
Notice of the availability of the final EA | January 2013.

Final amendments to the application must be filed with the Commission no later than 30 days from the issuance date of the notice of ready for environmental analysis.

Kimberly D. Bose,
Secretary.

[FR Doc. 2010-23599 Filed 9-21-10; 8:45 am]

BILLING CODE 6717-01-P